ENVIRONMENTAL PROTECTION AGENCY

[FRL-6856-2]

Regulatory Reinvention (XL) Pilot Projects; Project XL Final Project Agreement: PPG Industries, Inc.

AGENCY: Environmental Protection Agency.

ACTION: Notice of Project XL final project agreement.

SUMMARY: EPA is requesting comments on a proposed Project XL Final Project Agreement (FPA) for PPG Industries, Inc. (hereafter “PPG”). The FPA is a voluntary Agreement developed collaboratively by PPG and EPA.

DATES: The period for submission of comments ends on September 5, 2000.

ADDRESSES: All comments on the proposed Final Project Agreement should be sent to: Mr. Bill Waugh, US EPA, Ariel Rios Building, Mail Code 7403, 1200 Pennsylvania Avenue, NW, Washington, D.C. 20460 or Ms. Lisa Reiter, US EPA, Ariel Rios Building, Mail Code 1802, 1200 Pennsylvania Avenue, NW, Washington, D.C. 20460. Comments may also be faxed to Bill Waugh (202) 260-1216 or Lisa Reiter (202) 260-3125. Comments may also be received via electronic mail sent to: waugh.bill@epa.gov or reiter.lisa@epa.gov.

FOR FURTHER INFORMATION CONTACT: To obtain a copy of the Project Fact Sheet or the proposed Final Project Agreement, contact: Bill Waugh, US EPA, Ariel Rios Building, Mail Code 7403, 1200 Pennsylvania Avenue, NW, Washington, D.C. 20460 or Ms. Lisa Reiter, US EPA, Ariel Rios Building, Mail Code 1802, 1200 Pennsylvania Avenue, NW, Washington, D.C. 20460. The FPA and related documents are also available via the Internet at the following location: http://www.epa.gov/ProjectXL. In addition, a hard copy of the proposed FPA will be available from PPG—contact Jean Chun, Senior Toxicologist, PPG XL Coordinator for a copy (412) 492-5482.

Questions to EPA regarding the documents can be directed to Bill Waugh at (202) 260-3489 or Lisa Reiter at (202) 260-9041. To be included on the PPG XL mailing list about future public meetings, XL progress reports and other mailings from PPG on the XL project, contact Jean Chun, Senior Toxicologist, PPG Industries, Inc., 4325 Rosanna Drive, Allison Park, PA 15101 or at (412) 492-5482. For information on all other aspects of the XL Program, contact Christopher Knopes at the following address: Office of Environmental Policy Innovation, US EPA, Mail Code 1802, Ariel Rios Building, 1200 Pennsylvania Avenue, NW, Washington, D.C. 20460. Additional information on Project XL, including documents referenced in this notice, other EPA policy documents related to Project XL, Regional XL contacts, application information, and descriptions of existing XL projects and proposals, is available via the Internet at http://www.epa.gov/ProjectXL.

SUPPLEMENTARY INFORMATION: Project XL, announced in the Federal Register on May 23, 1995 (60 FR 27282), gives regulated entities the opportunity to develop alternative strategies that will replace or modify specific regulatory or procedural requirements on the condition that they produce greater environmental benefits.

The EPA Office of Prevention, Pesticides and Toxic Substances (OPPTS) has developed a set of computerized risk screening tools that have the potential to significantly advance pollution prevention objectives. The objective of the P2 Framework approach is to inform decision making at early stages of new chemical product development and to promote the selection and application of safer chemical substances and processes. Annually, EPA evaluates approximately two thousand (2000) Pre-Manufacture Notifications (PMNs) that are submitted to the Agency pursuant to Section 5 of EPA's Toxic Substances Control Act (TSCA). The Act requires that persons who manufacture (or import) a new chemical substance provide such notice to EPA 90 days prior to commencing nonexempt commercial manufacture. However, the law does not require that the submitter conduct laboratory tests to evaluate the potential hazard and risk of the new chemical substance. If the Agency does not take regulation action within 90 days of receipt of the PMN, the submitter may manufacture that new chemical substance. Operating under this time limitation, and often lacking sufficient data, EPA has developed methods to quickly screen chemical substances in the absence of data—known as the P2 Framework. In an outreach effort to industry, the Agency is making the P2 Framework methodologies available and is demonstrating how these tools can help design safer chemical substances, reduce waste generation, and identify other P2 Framework opportunities. Industry response to the incorporation of EPA's P2 Framework into the chemical development process has been positive.

PPG proposes to apply the P2 Framework early in its new product development process to help it identify and develop products and processes that can be sustained both environmentally and economically. Applying the P2 Framework as a part of its new product development process, PPG will incorporate environmental and health information into the early stages of its chemical development operations as well as identify opportunities for pollution prevention. PPG is planning on using the P2 Framework at three Research and Development (R&D) facilities located at Monroeville, Allison Park, and Harmarville; all are located in the greater Pittsburgh, PA area. PPG believes many other companies can develop environmentally preferable products by applying the P2 Framework, especially at the R&D stage of product development. The use of the P2 Framework will assist PPG when it is designing new chemical substances and products by enabling PPG to conduct an analysis similar to that performed by EPA for each PMN that is submitted to EPA. PPG will incorporate information obtained from use of the P2 Framework methodologies into its TSCA Section 5 submissions.

Unless the requirements for an exemption are met, a PMN submitter may not manufacture a new chemical substance until 90 days after it has submitted a PMN, even if information submitted to EPA indicates that the chemical substance will not present an unreasonable risk. However, when EPA determines during its initial review that a PMN chemical substance does not present an unreasonable risk to the environment or human health, the substance is not likely to be regulated by EPA. Therefore, PPG and EPA have agreed that, with respect to PMN substances that meet these criteria, based on PPG's initial pre-submission screen of the PMN materials using the P2 Framework and EPA's own review, PPG will be allowed to submit a Simultaneous Test Market Exemption (TME) Application and PMN for those chemical substances which have been evaluated by PPG in accordance with P2 principles. If the TME requirements are met (see 40 CFR 720.38) and the chemical substance gets dropped from PMN review 30 days of submission, PPG may begin manufacture under the TME within 45 days of submission in accordance with the limitations of the TME Application, and may commence normal manufacture at the conclusion of the 90-day PMN review period.

PPG's Project includes a series of innovative actions to help demonstrate to other chemical manufacturers how the P2 Framework can help develop products that are sustainable both environmentally and economically, while saving companies significant resources. This Project also includes several outreach initiatives for the purpose of promoting the use of the P2 Framework. Each initiative is designed to make other industry representatives aware of the source reduction, pollution prevention and economic benefits that can be realized by using the P2 Framework.

Dated: August 16, 2000.
Christopher A. Knopes,
Associate Director, Office of Environmental Policy and Innovation.

[FR Doc. 00-21381 Filed 8-21-00; 8:45 am]

BILLING CODE 6560-50-P